DEPARTMENT OF COMMERCE

National Oceanic and Atmospheric Administration

[RTID 0648-XA407]

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Teams will meet via webconference September 8, 2020 through September 11, 2020.

DATES: The meetings will be held on Tuesday, September 8, 2020, from 8 a.m. to 4 p.m.; Wednesday, September 9, 2020, from 8 a.m. to 4 p.m.; and Thursday, September 10, 2020, from 8 a.m. to 4 p.m., Alaska Time. If necessary, the meetings will continue into Friday, September 11, 2020.

ADDRESSES: The meeting will be a webconference. Join online through the link at https://meetings.npfmc.org/Meeting/Details/1563.

Council address: North Pacific Fishery Management Council, 1007 W 3rd Ave, Anchorage, AK 99501-2252; telephone: (907) 271-2809. Instructions for attending the meeting are given under SUPPLEMENTARY INFORMATION, below.

FOR FURTHER INFORMATION CONTACT: Sara Cleaver, Council staff; email: sara.cleaver@noaa.gov. For technical support please contact our administrative staff; email: npfmc.admin@noaa.gov.

SUPPLEMENTARY INFORMATION:

Agenda

Tuesday, September 8, 2020

The BSAI and GOA Groundfish Plan Teams will meet to review and discuss issues of importance to both Plan Teams, including but not limited to: Observer Program updates, ecosystem status reports and surveys, the longline survey, Ecological and Socioeconomic Profiles (ESPs), the Economic Stock assessment and Fishery Evaluation (SAFE), Essential Fish Habitat (EFH), VAST applications, survey loss uncertainty and survey prioritization.

Wednesday, September 9, 2020

The BSAI Groundfish Plan Team will review stock assessment updates and reports on EBS pollock, BSAI Pacific cod and the Northern Bering Sea Pacific cod tagging project, Blackspotted/Rougheye rockfish, Northern rock sole, and Yellowfin sole.

Thursday, September 10, 2020

The GOA Groundfish Plan Team will review stock assessment updates and reports on GOA pollock, Pacific cod, Pacific Ocean perch, and survey optimization. The agenda is subject to change, and the latest version will be posted at https://meetings.npfmc.org/Meeting/Details/1563 prior to the meeting, along with meeting materials.

Connection Information

You can attend the meeting online using a computer, tablet, or smart phone; or by phone only. Connection information will be posted online at: https://meetings.npfmc.org/Meeting/Details/1563.

Public Comment

Public comment letters should be submitted electronically to https://meetings.npfmc.org/Meeting/Details/1563.

Special Accommodations

These meetings are physically accessible to people with disabilities. Requests should be directed to Shannon Gleason at (907) 903-3107 at least 7 working days prior to the meeting date.

Authority: 16 U.S.C. 1801 et seq.

Dated: August 18, 2020.
Tracey L. Thompson,
Acting Deputy Director, Office of Sustainable Fisheries, National Marine Fisheries Service.

[FR Doc. 2020-18485 Filed 8-21-20; 8:45 am]

BILLING CODE 3510-22-P